ENVIRONMENTAL PROTECTION AGENCY

[ER-FRL-6612-1]

Environmental Impact Statements; Notice of Availability

Responsible Agency: Office of Federal Activities, General Information (202) 564-7167, or www.epa.gov/oeca/ofa, Weekly receipt of Environmental Impact Statements, Filed October 16, 2000 Through October 20, 2000, Pursuant to 40 CFR 1506.9.

EIS No. 000363, Draft EIS, AFS, MT, Ashland, Post-Fire Project, Proposal to Implement Restoration Activities to Maintain Watershed Custer National Forest Powder River and Rosebud Counties, MT, Due: December 11, 2000, Contact: Elizabeth McFarland (406) 784-2344.

EIS No. 000364, Final EIS, COE, CA, Upper Newport Bay Restoration Project To Develop a Long-Term Management Plan to Control Sediment Deposition Orange County, CA, Due: November 27, 2000, Contact: Larry Smith (213) 452-3846.

EIS No. 000365, Final EIS, FHW, WV, VA, WV-9 Improvements, from Charles Town Bypass (U.S. 340) to the Virginia Line, Funding and COE Section 404 Permit, Shenandoah River, Jefferson Co., WV and Loudoun Co., VA, Due: December 04, 2000, Contact: Thomas J. Smith (304) 347-5928.

EIS No. 000366, Final EIS, COE, CA, Santa Ana River Mainstem Project Including Santiago Creek, Proposal to Complete Channel Improvements along San Timoteo Creek Reach 3B to provide Flood Protection, San Bernardino County, CA, Due: November 27, 2000, Contact: Joy Jaiswal (213) 452-3871.

EIS No. 000367, Final EIS, COE, NC, Dare County Beaches (Bodie Island Portion) Hurricane Wave Protection and Beach Erosion Control, The towns of Nags Head, Kill Devil Hills, Kitty Hawk, Dare County, NC, Due: November 27, 2000, Contact: Chuck Wilson (910) 251-4746.

EIS No. 000368, Final EIS, COE, AZ, Rio de Flag Flood Control Study, Improvement Flood Protection, City of Flagstaff, Coconino County, AZ, Due: November 27, 2000, Contact: Tim Smith (202) 761-4172.

Amended Notices

EIS No. 000307, Draft EIS, FRC, AL, FL, Buccaneer Natural Gas Pipeline Project, Construction and Operations, To Deliver Natural Gas for Electric Power Generation, Mobile County, AL and Pasco, Polk, Hardee, Lake and Osceola Counties, FL, Due: November 07, 2000, Contact: Paul McKee (202) 208-1611.

Revision of FR notice published on 09/08/2000: CEQ Comment Date has been Extended from 10/24/2000 to 11/07/2000.

Dated: October 24, 2000.
Ken Mittelholtz,
Environmental Protection Specialist, Office of Federal Activities.

[FR Doc. 00-27677 Filed 10-26-00; 8:45 am]

BILLING CODE 6560-50-P